DEPARTMENT OF JUSTICE

Antitrust Division

Notice Pursuant to the National Cooperative Research and Production Act of 1933—Telemanagement Forum

Notice is hereby given that, on June 24, 2004, pursuant to Section 6(a) of the National Cooperative Research and Production Act of 1993, 15 U.S.C. 4301 et seq. (“the Act”), Telemanagement Forum (“the Forum”) has filed written notifications simultaneously with the Attorney General and the Federal Trade Commission disclosing changes in its membership status. The notifications were filed for the purpose of extending the Act's provisions limiting the recovery of antitrust plaintiffs to actual damages under specified circumstances. Specifically, Globetom, Lyttelton, South Africa; Zvolve Systems, Inc., Duluth, GA; Econet Wireless Nigeria, Victoria Island, Lagos, Nigeria; Connexion By Boeing, Irvine, CA; Telus, Edmonton, Alberta, Canada; Flexiton KFT., Budapest, Hungary; Powerise Software Research of Lanzhou University, Lanzhou, Gansu, People's Republic of China; Aprisma Management Technologies, Portsmouth, NH; China Mobile Communications Corporation, Beijing, People's Republic of China; Datanomic Limited, Cambridge, United Kingdom; European Technical Support Limited, Dorkins, Surrey, United Kingdom; Evans Griffiths & Hart, Inc., Lexington, MA; Vidus Limited, Ipswich, Suffolk, United Kingdom; Inoss, Inc., Austin, TX; Grupo Auna Barcelona, Spain; Hammerhead Systems, Inc., Mountain View, CA; Covad Communications, San Jose, CA; Xenicom Ltd., Bristol, United Kingdom; Primal Solutions, Inc., Irvine CA; Consitel, Moscow, Russia; Edynamic, Inc., Dallas, TX; Ramax International, St. Petersburg, Russia; Marand D.O.O., Ljubljana, Slovenia; Expertedge Software & Systems Limited, Lagos, Nigeria; Tno Telecom, 2600 GB Delft, The Netherlands; Centre of Software Engineering-CSE, Hanoi, Vietnam; Asidua Limited, Belfast, United Kingdom; Jordan Telecom, Amman, Jordan; Equant, Valbonne, France; Sycamore Networks, Inc., Chelmsford, MA; Anseres Consulting & Projectmanagement, Rendsburg, Germany; Telecom Consultants-TCOVA, Kerava, Finland; Pystechnics, Ipswich, Suffolk, United Kingdom; Aran Technologies, Ltd., Blackrock Co., Dublin, Ireland; IBB Consulting Group, New Hope, PA; Iceland Telecom, Ltd., Reykjavik, Iceland; Telchemy, Incorporated, Suwanee, GA; Mapinfo, Windsor, Berkshire, United Kingdom; Cable & Wireless, Bracknell, Berks, United Kingdom; 4DH Consulting, Reading, United Kingdom; Fsue Loniis, St. Petersburg, Russia; Elisa Corporation, Fin, Finland; Kingston Communications (Hull) PLC, Wakefield, West Yorkshire, United Kingdom; University of Southampton, Southampton, Hampshire, United Kingdom; Nexus Telecom AG, Hombrechtikon, Switzerland; CTI-Ipsoft, Moscow, Russia; QT Training, Ltd., Macclesfield, United Kingdom; Micro Research, Sa, Namur, Belgium; China Netcom Group Labs, Haidian District, Beijing, People's Republic of China; Networking Technology Laboratory, Budapest, Hungary; Ascom Deutschland, GMBH, Systems & Solutions, Aachen, Germany; Etesian GMBH, Holzkirchen, Germany; Embratel-Empresa Brasileira De Telecomunicacoes, Rio De Janiero, RJ, Brazil; Polynetics BV, Hendrick Ido Ambacht, DA, The Netherlands; Neoconsult APS, Friederiksberg, Denmark; Cell Vision, No-1234, Lysaker, Norway; Integral Access, Inc., Chelmsford, MA; Institut National Des Telecommunications, Evry, France; James Madison University, Harrisonburg, VA; Aliant, Inc., Saint John, New Brunswick, Canada; Cognizant Technology Solutions Corporation, Teaneck, NJ; Unisys Austria, Vienna, Austria; ITS-Telecom Systems Group, Dubai Internet City, Dubai, United Arab Emirates; Telekomunikacja Polska SA, Warszawa, Poland; Mobile Tornado, Ltd., Mougins, France; CanTV, Negocios de Cantv, Edificio Cortijos, Venezuela; Antic Seilor Rosch, Oldham, United Kingdom; N Tels Co., Ltd., Short Hills, NJ; Boc Iberica, Madrid, Spain; Inet Technologies, Inc., Richardson, TX; EXIS I.T., Athens, Greece; FBS, Ipswich, Suffolk, United Kingdom; and Telekom Slovenije, Ljubljana, Slovenia have been added as parties to this venture.

The following members have changed their names: A.P. Solve Limited has changed its name to Vidus Limited, Ipswich, Suffolk, United Kingdom; Antel has changed its name to Antel-Uruguay, Montevideo, Uruguay; BTEXACT Technologies has changed its name to BT Group PLC, London, United Kingdom; CH2M Hill Communications has changed its name to Equador, Richmond, Surrey, United Kingdom; Convergys Corporation has changed its name to Convergys, Cambridge, Cambridgeshire, United Kingdom; Divristi Telkom has changed its name to Telkom R&D Center, Bandung, West Java, Indonesia; Empresa Brasileira De Telecominicacoes has changed its name to Embratel-Empresa Brasileira De Telecomunicacoes, Rio De Janiero, RJ, Brazil; GN Nettest AS has changed its name to Nettest, Brondby, Denmark; Infovista S.A. has changed its name to Infovista, Courtaboeuf Cedex, France; Integral Access has changed its name to Integral Access, Inc., Chelmsford, MA; ITEC has changed its name to Columbia Telecommunicaciones SA ESP, Santafe De Bogota, Columbia; Kingston Communications has changed its name to Kingston Communications (Hull) PLC, Wakefield, West Yorkshire, United Kingdom; Neo Consult APS has changed its name to Neoconsult APS, Friederiksberg, Denmark; Psytechics has changed its name to Psytechnics, Ipswich, Suffolk, United Kingdom; Rocket has changed its name to Rocket Software, Alameda, CA; TCSI Corporation has changed its name to Rocket Software, Alameda, CA; Telecoremance has changed its name to Architelco, Valbonne, France; Telecom has changed its name to Columbia Telecommunicaciones SA ESP, Santafe De Bogota, Columbia; Telekomunikacja Polska S.A. has changed its name to Telekomunikacja Polska SA, Warszawa, Poland; Toshiba Corporation has changed its name to Toshiba Solutions Corporation, 1-1-1 Shibaura, Minato-Ku, Tokyo, Japan; and Zvolve has changed its name to Zvolve Systems, Inc., Duluth, GA.

The following members have cancelled or have had their memberships cancelled: Abobase Systems Ltd., Tallinn, Estonia; Accelight Networks, Ottawa, Ontario, Canada, ACCUDATA Technologies, Allen, TX; Adventnet, Inc., Pleasanton, CA; AI Metrix, El Dorado Hills, CA; Applied Innovation Inc., Dublin, OH; AUDITEC, Paris, France; Avisto S.A., Sophia Antipolis, Valbonne, France; Bouygues TelCom, Boulogne-Billancourt, France; Broadband And Networking, Herndon, VA; Businessedge Solutions Inc., East Brunswick, NJ; Cap Gemini Ernst & Young, Atlanta, GA; CAPE Techonologies, Blackrock County, Dublin, Ireland, CINTEL, Bogota, D.C., Columbia; Clear, Lincolnshire, IL; Comnitel Technologies, Cork, Ireland; Component Insights, Inc., Campbell, CA; Connexn Technologies, Golden, CO; Corrigent Systems, Tel Aviv, Israel; ENA, Inc., Alpharetta, GA; ETIS, Brussels, Belgium; Hatteras Networks, Research Triangle Park, NC; International Centers For Telecommunication, Technology, Inc. Palatine, IL; ITTI-Institute of Communication and Information Technologies, Poznan, Wielkopolska, Poland; Ki Consulting & Solutions AB, Sundsvall, Sweden; Lemur Networks, Eatontown, NJ; Marc Malaise, Weston, FL; Meriton Networks, Ottawa, Ontario, Canada; Metro-Optix, Inc., Allen, TX; Murray Dunlop Ltd., Cam, Dursley, Gloucestershire, United Kingdom; NE Technologies, Inc., Norcross, GA; Neural Technologies, Petersfield, Hampshire, United Kingdom; New Generation Operations, E. Windsor, NJ; Nightfire Software, Inc., Oakland, CA; Objectif, Sydney, New South Wales, Australia; OKI Electric Industry Co., Chiba-shi, Chiba, Japan; Open Telecommunications, Bothell, WA; Ortia Ltd., Osix, Stockholm, Sweden; Panasonic Mobile Communications Co., Ltd., Kadoma City, Osaka, Japan (was a member from June 12, 1999 to March 31, 2004); Panduit Corporation, Tinley Park, IL; Photuris, Inc. Piscataway, NJ; QWest Communications, Denver, CO; Richstone LTD., Koto-ku, Tokyo, Japan; RMG, Inc., Basking Ridge, NJ; Sirius Software GMBH, Oberhaching, Germany; Softalia, Inc., Herndon, VA; Sybase, Inc., Dublin, CA; Taral Networks, Inc., Kanata, Ontario, Canada; TBoothe Communications, San Jose, CA; Tecnosistemi Spa Tlc Engineering & Services, Rozzano, Milanofiori, Italy; Telewest Communications, plc, Woking, Surrey, United Kingdom; Tellium, Inc., Oceanport, NJ; Tenor Networks, Inc., Acton, MA (was a member from December 18, 1999 to January 18, 2004); Tropic Networks, Inc., Ottawa, Ontario, Canada; University College London, Bath, Avon, United Kingdom; University of Glasgow, Glasgow, Scotland, United Kingdom; Vertel Corp., Woodland Hills, CA; Viewgate Networks, Kent, United Kingdom; Visionael, Palo Alto, CA; and Wisor Telecom, Gaithersburg, MD.

No other changes have been made in either the membership or planned activity of the group research project. Membership in this group research project remains open, and the Forum intends to file additional written notifications disclosing all changes in membership.

On October 21, 1988, the Forum filed its original notification pursant to Section 6(a) of the Act. The Department of Justice published a notice in the Federal Register pursuant to Section 6(b) of the Act on December 8, 1988 (53 FR 49615).

The last notification was filed with the Department on November 12, 2003. A notice was published in the Federal Register pursuant to Section 6(b) of the Act on February 3, 2004 (69 FR 5186).

Dorothy B. Fountain,
Deputy Director of Operations, Antitrust Division.

[FR Doc. 04-18869 Filed 8-17-04; 8:45 am]

BILLING CODE 4410-11-M